DEPARTMENT OF COMMERCE

[Docket Number USBC-2019-0001]

Request for Comments on the Cross-Agency Priority Goal: Leveraging Data as a Strategic Asset: Phase 3

AGENCY: Department of Commerce.

ACTION: Notice and request for comments.

SUMMARY: In March 2018, President Trump launched the President's Management Agenda (PMA). It lays out a long-term vision for modernizing the Federal Government in key areas that will improve the ability of agencies to deliver mission outcomes, provide excellent service, and effectively steward taxpayer dollars on behalf of the American people. The PMA established a Cross-Agency Priority (CAP) goal of Leveraging Data as a Strategic Asset with an intended purpose of guiding development of a comprehensive long-term Federal Data Strategy (hereinafter “Strategy”) to grow the economy, increase the effectiveness of the Federal Government, facilitate oversight, and promote transparency (https://www.performance.gov/CAP/CAP_goal_2.html). This notice seeks comment on a draft action plan for Federal agencies to adopt in order to achieve the objectives of this CAP goal. This is the third Federal Register Notice seeking public comment related to the Federal Data Strategy. The previous two notices sought comments on the Strategy's draft principles and draft practices, respectively.

DATES: Comments on this notice must be received by July 5, 2019.

ADDRESSES: Submit comments through either the Federal eRulemaking Portal or the Strategy website at https://strategy.data.gov. Include the Docket ID and the phrase “Leveraging Data as a Strategic Asset Phase 3 Comments” at the beginning of your comments. Also indicate which questions described in the SUPPLEMENTARY INFORMATION of this notice are addressed in your comments. Comments will not be accepted by fax or paper delivery.

• Federal eRulemaking Portal: Go to www.regulations.gov to submit your comments electronically under Docket ID USBC-2019-0001. Information on using regulations.gov, including instructions for accessing documents, submitting comments, and viewing the docket, is available on the site under “How to Use This Site.”

• Privacy Note: Comments and information submitted in response to this notice may be made available to the public through relevant websites. Therefore, commenters should only include in their comments information that they wish to make publicly available on the internet. Note that responses to this public comment request containing any routine notice about the confidentiality of the communication will be treated as public comments that may be made available to the public.

FOR FURTHER INFORMATION CONTACT: William Hawk, Economist, U.S. Census Bureau, william.r.hawk@census.gov or 301-763-0654.

SUPPLEMENTARY INFORMATION:

Purpose

The Deputy Secretary of the U.S. Department of Commerce, along with the Federal Chief Information Officer, the Chief Statistician of the United States, and executives from the U.S. Small Business Administration and the White House Office of Science and Technology Policy, is charged with developing a comprehensive Federal Data Strategy to achieve the President's Management Agenda CAP goal of Leveraging Data as a Strategic Asset. Under this goal, the Federal Government should leverage program, statistical, and mission-support data as a strategic asset to grow the economy, increase the effectiveness of the Federal Government, facilitate oversight, and promote transparency.

The Federal Data Strategy for the U.S. Government establishes a balanced and holistic approach to leveraging data as a strategic asset. The Strategy articulates a vision for the Federal Government to accelerate the use of data to support the foundations of democracy, deliver on mission, serve customers, and steward resources while protecting security, privacy, and confidentiality. Consistent with this vision, Executive Branch agencies will routinely leverage data in support of Federal Government mission priorities to better inform decision-making and improve accountability and will securely share and provide access to data for commercialization, innovation, and public use.

The Strategy consists of three components to guide federal data management and use.

• Mission Statement: The mission statement articulates the intent and core purpose of the Strategy.

• Principles: The principles serve as motivational guidelines in the areas of Ethical Governance, Conscious Design, and Learning Culture. The principles include concepts reflected in existing principle frameworks, such as those for the protection of personal information, for the management of information as an asset, for federal statistical agency operations, and for federal evidence building. These principles informed the development of practices and will inform subsequent action steps for the Strategy.

• Practices: The practices guide agencies on how to leverage the value of data by Building a Culture that Values Data and Promotes Public Use; Governing, Managing, and Protecting Data; and Promoting Efficient and Appropriate Data Use. The practices shall inform the development of subsequent action steps for the Strategy.

Details about the components of the Strategy are available at https://strategy.data.gov.

Executive Branch agencies will implement the Strategy in accordance with OMB guidance and by adhering to the requirements of annual Federal Data Strategy Action Plans. These plans will identify a subset of action steps related to practices that are the priority for a given year, along with targeted timeframes for implementation and identified actors. This approach allows for continuous innovation with focused, measured progress, along with opportunities to improve and adapt plans for future actions. OMB may assess agencies on their progress in implementing these practices through the Federal Data Strategy Action Plans and any of its existing oversight and coordination mechanisms.

The 2019-20 Federal Data Strategy Action Plan will be published in 2019. This Federal Register Notice seeks public input on the Draft 2019-20 Federal Data Strategy Action Plan. This is the third of three Federal Register Notices seeking public comment related to the Federal Data Strategy. The Department of Commerce published the first of these notices in the Federal Register (83 FR 30113) on June 27, 2018. A total of 237 comments were received, with almost 100 comments related to the draft principles. The second notice sought comments on draft practices. It was published in the Federal Register (83 FR 52379) on October 17, 2018, and respondents submitted a total of 346 comments. Based on comments received in the first two phases, the data strategy team revised the principles and practices. The revised principles and practices are available at https://strategy.data.gov. This notice solicits stakeholder feedback on the Draft 2019-2020 Federal Data Strategy Action Plan.

Request for Comments

The Draft 2019-2020 Federal Data Strategy Action Plan is available at https://strategy.data.gov and will be revised and further developed in response to public and agency comments. Comments specific and responsive to the following are requested:

1. Identify additional actions needed to implement the Federal Data Strategy that are not included in the draft Action Plan and explain why.

2. Identify additional actions that would align with or complement ongoing Federal data initiatives or the implementation of new legislation, such as the Foundations for Evidence-based Policy Making Act of 2018 and explain why.

3. Identify any actions in the draft Action Plan that should be considered for omission and explain why.

4. For each action, provide any edits and additional detail to ensure that they accurately and effectively describe needed activities, responsible entities, metrics for assessing progress, and timelines for completion.

5. For each action, provide information about the implementation resources necessary to ensure success of the action steps.

Guidance for Submitting Documents

This guidance for submitting documents is offered to facilitate the analysis and full consideration of the comments. If responding on behalf of an organization or agency, please include the name and address of your institution or affiliation, and your name, title, email addresses, and telephone number. No specific information about you is required, other than that necessary for self-identification, for full consideration of the comment.

Comments should be informative for the Draft 2019-2020 Federal Data Strategy Action Plan. Comments on issues not related to the draft Action Plan will not be considered.

Please submit comments either through the Federal Register portal at www.regulations.gov or through the Federal Data Strategy website at https://strategy.data.gov.

Please specify the number of the question to which your comment applies. If possible, structure your comments on specific actions in the draft Action Plan so that they refer to the number of the relevant action. If you have multiple comments on one action, please organize them together by action number.

If possible, provide comments in a Microsoft Word or plain text file and avoid using footnotes, end notes, images, graphics, or tables. If you refer to reference material (documents, websites, research), please quote or paraphrase the specific content from referenced material.

Dated: April 26, 2019.
Karen Dunn Kelley,
Deputy Secretary of Commerce, Department of Commerce.

[FR Doc. 2019-11597 Filed 6-3-19; 8:45 am]

BILLING CODE 3510-07-P